DEPARTMENT OF HEALTH AND HUMAN SERVICES

Centers for Disease Control and Prevention

[30 Day-08-07AH]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Qualitative Evaluation of HIV Counseling, Testing, and Referral Services in Non-Health Care Settings: Eliciting Consumer Views—New—National Center for HIV/AIDS, Viral Hepatitis, STD, and TB Prevention (NCHHSTP), Coordinating Center for Infectious Diseases (CCID), Centers for Disease Control and Prevention (CDC).

Background and Brief Description

Historically, HIV prevention efforts have targeted people at risk for HIV infection with the goal of keeping those who are HIV negative from becoming infected. However, the epidemic has changed with the introduction of highly active anti-retroviral therapy (HAART). People with HIV are now living longer, and with a steady incidence and increasing prevalence, an estimated 1,039,000 to 1,185,000 people are now living with HIV/AIDS in the United States. It is estimated that 25% of HIV-infected persons are not aware of their infection. Critical components in controlling the spread of HIV infection are early knowledge of HIV infection and access to treatment. Awareness of HIV infection has also been shown to reduce high risk sexual behaviors in some populations. Therefore, access to HIV counseling, testing, and referral (CTR) services can play a significant role in reducing HIV transmission.

This project involves formative research to elicit consumer opinions on HIV CTR in non-health care settings. The study entails conducting 21 focus groups with persons who are either HIV positive or at risk for HIV because of their drug injection or sexual behavior. The purpose of the focus groups is to explore: (1) Facilitators and barriers to use CTR services in non-health care settings; (2) ideal service components to decrease barriers to early diagnosis, decrease risk behaviors, link clients with follow-up care, and ensure client rights; (3) perceived risks and benefits of CTR; and (4) preferences for providing informed consent.

CDC will use study findings to inform the development of new recommendations for HIV CTR in non-health care settings. We expect a total of 630 individuals to be screened for eligibility. Of those who are screened, we expect that 252 individuals will join the study and participate in a focus group. There are no costs to the respondents other than their time. The total estimated annual burden hours are 714.

Estimated Annualized Burden Hours
Type of respondent | Form name | Number of respondents | Number responses per respondent | Average burden per response (in hours)
Prospective Participant | Screener | 630 | 1 | 20/60
Adult Past Clients (HIV-negative) | Facilitator Guide—Adult Past Clients (HIV-negative) | 60 | 1 | 2
Adult Past Clients (HIV-positive) | Facilitator Guide—Adult Past Clients (HIV-positive) | 60 | 1 | 2
Adult Potential Clients | Facilitator Guide—Adult Potential Clients | 60 | 1 | 2
Adolescents (HIV-positive) | Facilitator Guide—Adolescents (HIV-positive) | 24 | 1 | 2
Adolescents (HIV-negative) | Facilitator Guide Adolescents (HIV-negative) | 48 | 1 | 2

Dated: November 8, 2007.
Maryam I. Daneshvar,
Acting Reports Clearance Officer, Centers for Disease Control and Prevention.

[FR Doc. E7-22637 Filed 11-16-07; 8:45 am]

BILLING CODE 4163-18-P